DEPARTMENT OF HEALTH AND HUMAN SERVICES

National Institutes of Health

National Cancer Institute; Amended Notice of Meeting

Notice is hereby given of a change in the meeting of the National Cancer Institute (NCI) Ad hoc Clinical Trials Strategic Planning Subcommittee of the NCI Clinical Trials and Translational Research Advisory Committee (CTAC), July 8, 2014, 2:00 p.m. to July 8, 2014, 3:00 p.m., National Cancer Institute Shady Grove, Shady Grove, 9609 Medical Center Drive, 6West CCCT Huddle Room, Rockville, MD, 20850 which was published in the Federal Register on May 8, 2014, 79 FR 26441.

This notice is being amended to change the meeting type to a webinar. The meeting will be open to the public. Pertinent information related to the webinar is as follows:

Go to: https://cbiit.webex.com/cbiit/j.php?MTID=m3d3b0b1886a6e7b32fbf568ae44f6915

Meeting Password: ctac.

Meeting Number: 735 128 827.

Audio Connection

1. Provide your number when you join the meeting to receive a call back. Alternatively, you can call the following number: Dial In Number: 1-240-276-6338.

2. Follow the instructions that you hear on the phone. Your Cisco Unified MeetingPlace meeting ID: 730 501 868.

Dated: May 31, 2014.
Melanie J. Gray,
Program Analyst, Office of Federal Advisory Committee Policy.

[FR Doc. 2014-13025 Filed 6-4-14; 8:45 am]

BILLING CODE 4140-01-P